DEPARTMENT OF AGRICULTURE

Agricultural Marketing Service

9 CFR Part 201

RIN 0581-AE18

[Doc. No. AMS-FTPP-22-0046]

Poultry Growing Tournament Systems: Fairness and Related Concerns

AGENCY: Agricultural Marketing Service, U.S. Department of Agriculture.

ACTION: Advance notice of proposed rulemaking; reopening of comment period.

SUMMARY: The Agricultural Marketing Service (AMS) is providing additional time for the public to submit comments and information that will inform policy development and future rulemaking proposals regarding the use of poultry grower ranking systems commonly known as tournaments in contract poultry production. AMS seeks this input in response to numerous complaints from poultry growers about the use of tournament systems. Comments in response to this request would help AMS tailor further rulemaking in addition to that already planned and under way to address specific industry practices in relation to tournament systems.

DATES: The comment period for the notice originally published on June 8, 2022, at 87 FR 34814, is reopened. Comments must be submitted on or before September 26, 2022.

ADDRESSES: Comments can be submitted by either of the following methods:

• Federal eRulemaking Portal: Go to https://www.regulations.gov. Enter AMS-FTPP-22-0046 in the Search field. Select the Documents tab, then select the Comment button in the list of documents.

• Postal Mail/Commercial Delivery: Send your comment to Docket No. AMS-FTPP-22-0046, S. Brett Offutt, Chief Legal Officer, Packers and Stockyards Division, USDA, AMS, FTPP; Room 2097-S, Mail Stop 3601, 1400 Independence Ave. SW, Washington, DC 20250-3601.

FOR FURTHER INFORMATION CONTACT: S. Brett Offutt, Chief Legal Officer/Policy Advisor, Packers and Stockyards Division, USDA AMS Fair Trade Practices Program, 1400 Independence Ave. SW, Washington, DC 20250; Phone: (202) 690-4355; or Email: s.brett.offutt@usda.gov.

SUPPLEMENTARY INFORMATION: A notice published in the Federal Register on June 8, 2022 (87 FR 34814), requested comments and information from the public to assist AMS in developing policy regarding the use of poultry grower ranking or “tournament” pay systems as a means to determine grower compensation by vertically integrated poultry companies, known as “integrators”. This advance notice of proposed rulemaking (ANPR) established a 90-day comment period, ending September 6, 2022. During the initial comment period, AMS received requests from industry organizations asking for additional time to submit comments, citing the breadth and complexity of the questions and concepts presented for comment.

AMS is now reopening the comment period to encourage additional input on the topics raised by the ANPR. The June 8, 2022, ANPR includes numerous specific questions for commenter consideration. We ask that commenters please fully explain all views and alternative solutions or suggestions, supplying examples and data or other information to support those views where possible.

Erin Morris,
Associate Administrator, Agricultural Marketing Service.

[FR Doc. 2022-19533 Filed 9-8-22; 8:45 am]

BILLING CODE 3410-02-P